DEPARTMENT OF AGRICULTURE

Forest Service

Upper Blue Stewardship Project; White River National Forest, Summit County, Colorado.

AGENCY: Forest Service, USDA.

ACTION: Notice of intent to prepare a Environmental Impact Statement in conjunction with planning the Upper Blue Stewardship Project (hereafter referred to as the Stewardship Project).

SUMMARY: The USDA Forest Service, White River National Forest, gives notice of the agency's intent to prepare an environmental impact statement (EIS) to disclose the environmental effects of timber harvest, prescribed fire, watershed rehabilitation, re-construction/closure/obliteration of roads, trail reconstruction, non-system trail obliteration, and historic site interpretation, in conjunction with designing the Stewardship Project for the Dillon Ranger District of the White River National Forest. These proposed actions are being considered together because they represent either connected or cumulative actions as defined by the Council on Environmental Quality (40 CFR 1508.25). This notice describes the purpose and need for action, the proposed activities, environmental issues considered, information concerning public participation, estimated dates for filing the environmental impact statement, and the names and addresses of the agency officials who can provide additional information.

Project Area: The Stewardship Project is using an interdisciplinary approach to manage 14,000 acres between the towns of Frisco, CO to the north and Breckenridge, CO to the south, Highway 9 to the east, and the top of the Tenmile Range to the west. The area is located in T5S, R77W, Sec. 31. T6S, R78W, Sec. 1, 2, 3, 4, 9, 10, 11, 12, 13, 14, 15, 16, 21, 22, 23, 24, 25, 26, 27, 28, 33, 34, 35, and 36 on the Dillon Ranger District of the White River National Forest, Summit County, CO. The elevation in the area is between 9,000-12,933 feet.

Background: The Upper Blue Stewardship Project was originally proposed in 1999. It involved extensive scoping and public involvement on a local, regional and national level. The original NOI was published on April 5, 1999. The FEIS for the Stewardship Project was completed in December 2000 and the ROD was signed in March 2001. Because the White River Forest Plan revision was nearing completion and conditions had changed, the White River Forest Supervisor decided to withdraw the Decision in May 2001. After the issuance of the Revised White River Land and Resource Management Plan in July 2002, it was deemed timely to readdress the Upper Blue Stewardship Project. The decision was made to revise the EIS. This EIS will tier to the Final EIS for the White River Land and Resource Management Plan—2002 Revision and will be consistent with the Goals, Objectives, Standards and Guidelines of the 2002 Forest Plan. It will also consider the significant issues identified during the original scoping effort and the comments received on the original DEIS.

Purpose & Need: The project area, as well as the remainder of Summit County, was heavily logged during the mining era (1870-1910). Many trees were removed, particularly Douglas-fir and ponderosa pine due to their superior lumber qualities. Other stands of trees were burned for a variety of reasons including carelessness, opening up foraging areas for livestock, or to expose mineral deposits. The result is a dense, relatively even-aged forest between 90-130 years old that is dominated by lodgepole pine, a relatively short-lived, disturbance-dependent species. In addition, the landscape lacks diversity of tree species and forest structure (mixed-size forests, young stands, old growth). This lack of diversity affects both long-term forest health (homogenous forests are more susceptible to insects, disease and uncontrolled fire spread) and habitat for wildlife (the even-age forest has limited understory forage for species such as elk).

These largely unbroken landscapes of single-species forests are nearing the stage in development where they are becoming increasingly at risk for insect, disease and fire disturbances due to their size, age and homogeneity. Add to this the continuous influx of urban growth at the forest interface, and the risk for catastrophic fire events and associated consequences will increase over time. Adding human life and property to the wildland mix requires forest management practices that take human values into consideration.

Under the revised Forest Plan, a large portion of the project area has a management prescription that emphasizes elk, particularly calving habitat. There is a management need to establish levels of motorized travel and non-motorized recreation that are compatible with elk use in the area.

The riparian area in the Miner's Creek drainage has deteriorated over time due to the close proximity of system and non-system roads and trails and the high density of dispersed campsites within the stream corridor. This has resulted in sedimentation of the creek from eroding streamsides and runoff from roads. In addition there are potential sanitation issues from camping in close proximity to the creek.

This Stewardship Project aims to:

• improve forest health and wildlife habitat effectiveness by increasing species and structural diversity;

• reduce the fire hazards to nearby private lands and improvements in the long-term by increasing species and structural diversity within the project area, and in the short-term by reducing dead fuels in old clearcuts and reducing tree crown density in the wildland/urban interface;

• protect elk calving habitat by assuring travelways open to motorized travel will not exceed an average travelway density of one-half mile per square mile during calving season;

• improve water quality and riparian areas by reducing runoff from roads and trails and promoting responsible recreation use;

The Project proposes to use a variety of techniques to improve biodiversity and consequently the health of the forest, while protecting and enhancing the heritage, recreation, visual, watershed and wildlife resources. The Forest Service seeks to develop a strong partnership with local government, private landowners and forest users to help implement the necessary treatments on the ground and monitor the results using adaptive management techniques.

Proposed Action

Purpose—Improve forest health and wildlife habitat effectiveness by improving biodiversity

Objective—Increase species and structural diversity through vegetation treatments—Approximately 2,691 acres of vegetation management is proposed. This includes 502 acres of planting Douglas-fir, or a mix of ponderosa pine, Douglas-fire, and limber pine. These species would be planted in existing clearcuts, in new clearcuts (up to 58 acres proposed) or underplanted in lodgepole pine stands. The site preparation associated with this planting includes a combination of thinning and/or prescribed burning.

The proposed action includes 1,654 acres of group selection/patch clearcuts to promote aspen regeneration, increase spruce/fir and/or increase age class diversity of lodgepole pine. All openings to regenerate aspen would be broadcast burned or ripped to promote sprouting.

This proposed action also includes 445 acres of stand replacement prescribed burns, and 90 acres of special cuts/burns within the Nordic ski area permit boundary.

This proposal would make available for personal use and to some extent commercial use, approximately 10,500 Christmas trees for approximately 340 acres.

Purpose—Reduce the fire hazards to nearby private lands

Objective—Increase species/structural diversity and decrease stand density through vegetation treatments—The vegetation treatments described above to increase the aspen component would also help reduce the fire hazards since fire behavior typically becomes less extreme when pure aspen stands are encountered. The Christmas tree cutting would create an almost pure aspen stand adjacent to the Town of Frisco, greatly increasing fire resistance of this aspen stand. Openings created in the canopy by patch clearcuts or stand-replacement burns will also help to mitigate crown fire behavior. Due to an overall increase in tree species (especially aspen), structural diversity, canopy openings and fuel treatments, fire hazard within the project area would decrease.

Reduce tree crown density in the urban interface zone—The vegetation along 12 miles of the national forest/private land boundary on the east and north side of the project area would receive thinnings and group selection cuts to reduce fuels. The only interior private land boundary included is the Whatley Ranch. This stand density management may occur on up to 450 acres of National Forest System (NFS) land within 100-300 feet of private lands (the Interface Zone), in areas where a similar amount is occurring on private lands. In conjunction with vegetation treatments on the private lands, fire hazard within the urban interface zone would decrease.

Purpose—Protect elk calving habitat

Objective—Mitigate against disruption of calving by motorized vehicles—Provide seasonal motorized road and trail closures to assure travelways open to motorized travel will not exceed an average travelway density of one-half mile per square mile during calving season.

Purpose—Improve riparian areas and watershed conditions

Objective—Reduce impacts from camping by promoting responsible recreation use—The Miners Creek riparian area would be improved by converting the Miners Creek drainage to a “camping in designated sites only area”. Ninetten (19) campsites would be designated in that drainage and 12 dispersed sites within 100′ of the creek would be closed and rehabilitated. To improve sanitation, campers would be required to carry and use a personal self-contained portable toilet similar to ones typically used when river rafting. In addition, material would be removed from the Iron Springs meadow. One 10 car parking area would be designated west of Rainbow Lake. The current parking area south of Rainbow Lake would remain a dispersed parking area.

Interpretive Sites—Six sites (approximately 10 signs) would be developed: Two historical signs (Masontown, Breckenridge end of the Peaks Trail), five vegetation interpretive signs (the Gold Hill Trailhead, and both ends of the Peaks Trail, Miners Creek Road and Sapphire Point), and three wildlife signs (Masontown, Peaks Trailhead in Breckenridge, and Gold Hill Trailhead).

Reduce impacts from roads and trails—Riparian areas and watershed condition would be improved through road and trail closures. Eleven miles of roads and 5.8 miles of trails would be decommissioned. Total road and non-motorized trail miles remaining in this proposal would be 10.3 and 32.5 respectively (includes all USFS, county and private roads and trails). Summer motorized and non-motorized miles available would decrease. Winter use would remain unchanged. Roads would be managed at the minimum level necessary for erosion control.

Project Design and Mitigation Measures: All proposed treatments and activities would follow the standards and guidelines found in the Revised White River Land and Resource Management Plan—2002.

Roadless: No prescribed fire, road construction or vegetation treatments are proposed in the inventoried roadless areas designated by the Revised Forest Plan; furthermore no actions are proposed within the boundaries of the old Tenmile RARE II roadless area.

Preliminary Issues: Issues identified to date include: impacts of timber harvesting and prescribed burning on visual quality in a recreation setting; changes in winter snow compaction in lynx habitat; quantity of system and non-system roads and trails and their impacts on water quality and wildlife habitat; the impacts of timber harvesting and prescribed burning on water quality, specifically sedimentation and phosphorus; potential impacts to heritage resources; potential spread of noxious weeds; air quality impacts from burning; recreation user conflicts; and effects on threatened, endangered, sensitive and management indicator species.

Project Funds: K-V Funds, project funds or value would be generated under this alternative. Therefore, post-sale projects may be completed using K-V Funds, project funds or exchanging goods for services.

Involving the Public: Pursuant to Part 36 Code of Federal Regulations (CFR) 219.10(g), the Forest Supervisor for the White River National Forest gives notice of the agency's intent to prepare an environmental impact statement for the Stewardship Project described above. The Forest Service is seeking information, comments, and assistance from individuals, organizations and federal, state, and local agencies who may be interested in or affected by the proposed action (36 CFR 219.6).

Public participation will be solicited by notifying in person and/or by mail known interested and affected publics. A legal notice and news releases will be used to give the public general notice. Public participation activities will include requests for written comments. The public is invited to help identify issues and define the range of alternatives to be considered in the environmental impact statement.

A reasonable range of alternatives will be evaluated and reasons will be given for eliminating some alternatives from detailed study. A “no-action alternative” is required, meaning that management will not change the present condition. Alternatives will provide different ways to address and respond to public issues, management concerns, and resource opportunities identified during the scoping process. Scoping comments and existing condition reports will be used to develop alternatives.

DATES: Comments concerning the proposed action should be received in writing by November 9, 2002.

ADDRESSES: Send written comments to: Upper Blue Stewardship Project, Dillon Ranger District P.O. Box 620, Silverthorne, CO 80498.

FOR FURTHER INFORMATION CONTACT: Peech Keller or Sarah Pearson, at (970) 468-5400. For road and trail questions and concerns, contact Angela Glenn (970) 262-3446.

Release and Review of the EIS

The DEIS is expected to be filed with the Environmental Protection Agency (EPA) and to be available for public comment in March 2003. At that time, the EPA will publish a notice of availability for the DEIS in the Federal Register. The comment period on the DEIS will be 45 days from the date the EPA publishes the notice of availability in the Federal Register.

The Forest Service believes, at this early stage, it is important to give reviewers notice of several court rulings related to public participation in the environmental review process. First, reviewers of the DEIS must structure their participation in the environmental review of the proposed so that it is meaningful and alerts an agency to the reviewer's position and contentions; Vermont Yankee Nuclear Power Corp. v. NRDC. 435 U.S. 519, 533 (1978). Also, environmental objections that could be raised at the DEIS stage but are not raised until after completion of the Final Environmental Impact Statement (FEIS) may be waived or dismissed by the courts; City of Angoon v. Hodel, 803 F. 2d 1016, 1022 (9th Cir. 1986) and Wisconsin Heritage, Inc., v. Harris, 490 F. Supp. 1334, 1338 (E.D. Wis. 1980). Because of these court rulings, it is very important that those interested in this proposed action participate by the close of the 45 day comment period so that substantive comments and objections are made available to the Forest Service at a time when it can meaningfully consider them and respond to them in the FEIS.

To assist the Forest Service in identifying and considering issues and concerns on the proposed actions, comments on the DEIS should be as specific as possible. It is also helpful if comments refer to specific pages or chapters of the draft statement. Comments may also address the adequacy of the DEIS or the merits of the alternatives formulated and discussed in the statements. Reviewers may wish to refer to the Council on Environmental Quality Regulations for implementing the procedural provisions of the National Environmental Policy Act at 40 CFR 1503.3 in addressing these points.

After the comment period ends on the DEIS, comments will be analyzed, considered, and responded to by the Forest Service in preparing the Final EIS. The FEIS is scheduled to be completed in June 2003. The responsible official will consider the comments, responses, environmental consequences discussed in the FEIS, and applicable laws, regulations, and policies in making decisions regarding these revisions. The responsible official will document the decisions and reasons for the decisions in a Record of Decision for the revised Plan. The decision will be subject to appeal in accordance with 36 CFR part 217.

Responsible Official

Martha J. Ketelle, Forest Supervisor, White River National Forest. PO. Box 948, Glenwood Springs, CO 81602-0948 “As the Responsible Official, I will decide which, if any, of the proposed projects will be implemented. I will document the decision and reasons for the decision in the Record of Decision. That decision will be subject to Forest Service appeal regulations.”

Dated: October 7, 2002.
Stephen C. Sherwood,
Deputy Forest Supervisor, White River National Forest.

[FR Doc. 02-25950 Filed 10-11-02; 8:45 am]

BILLING CODE 3410-11-M